FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 9, 2016.

A. Federal Reserve Bank of Chicago (Colette A. Fried, Assistant Vice President) 230 South LaSalle Street, Chicago, Illinois 60690-1414:

1. Charles W. Ruth, individually and as the sole general partner of ACBT L.P., both of Huntley, Illinois, to individually, and together as a group acting in concert, with ACBT L.P., Helen J. Ruth, Eric L. Ruth, all of Huntley, Illinois, William A. Ruth, Mary H. Ruth, both of Woodstock, Illinois, Emily Ruth Smith, Jonathan R. Smith, both of Lake in the Hills, Illinois, Scott H. Ruth, Marengo, Illinois, Janet L. Smith Trust No. 1 dated December 13, 1994, with Janet L. Smith as trustee, and John J. Smith, all of McHenry, Illinois, and Scott L. Smith, Royal Oak, Michigan; to acquire voting shares of American Community Financial, Inc., and thereby indirectly acquire voting shares of American Community Bank, both in Woodstock, Illinois.

Board of Governors of the Federal Reserve System, February 18, 2016.
Michael J. Lewandowski,
Associate Secretary of the Board.

[FR Doc. 2016-03691 Filed 2-22-16; 8:45 am]

BILLING CODE 6210-01-P